FEDERAL COMMUNICATIONS COMMISSION

Notice of Public Information Collection(s) Approved by the Office of Management and Budget

July 8, 2008.

SUMMARY: The Federal Communications Commission has received Office of Management and Budget (OMB) approval for the following public information collection(s) pursuant to the Paperwork Reduction Act of 1995 (44 U.S.C. 3501-3520). An agency may not conduct or sponsor a collection of information unless it displays a currently valid OMB control number, and no person is required to respond to a collection of information unless it displays a currently valid OMB control number. Comments concerning the accuracy of the burden estimate(s) and any suggestions for reducing the burden should be directed to the person listed in the FOR FURTHER INFORMATION CONTACT section below.

FOR FURTHER INFORMATION CONTACT: For additional information contact Thomas McCudden, Spectrum and Competition Policy Division, Wireless Telecommunications Bureau at (202) 418-7769 or via Internet at Thomas.McCudden@fcc.gov.

SUPPLEMENTARY INFORMATION: OMB Control Number: 3060-0999.

OMB Approval Date: 7/2/08.

Expiration Date: 7/31/11.

Title: Section 20.19, Hearing Aid-Compatible Mobile Handsets (Hearing Aid Compatibility Act).

Form No.: N/A.

Estimated Annual Burden: 925 respondents; 950 responses; 13.2 hours average burden per response; 12,600 annual burden hours.

Obligation to Respond: Required to obtain or retain benefits; Statutory authority for this collection of information is contained in Sections 47 U.S.C. 151, 154(i), 157, 160, 201, 202, 208, 214, 301, 303, 308, 309(j), and 310.

Nature and Extent of Confidentiality: Information requested in the reports may include confidential information. However, covered entities would be allowed to request that such materials submitted to the Commission be withheld from public inspection. See 47 CFR 0.459.

Needs and Uses: The Commission is revising this IC because it has adopted final rules in a Report and Order, FCC 08-68, adopted on February 26, 2008, and released on February 28, 2008, which updates several of the performance benchmarks for the offering of hearing aid-compatible handset models by manufacturers and service providers of digital handsets used with public mobile services, institutes new requirements for manufacturers to refresh their product lines and for service providers to offer hearing aid-compatible handset models with differing levels of functionality, adopts a new version of the technical standard for measuring hearing aid compatibility, and addresses the application of the rules to phones that operate in multiple frequency bands or air interfaces.

To assist the Commission in monitoring the implementation of the new requirements and to provide information to the public, the Report and Order also requires manufacturers and service providers to continue to file annual reports on the status of their compliance with these requirements, and requires manufacturers and service providers that maintain public Web sites to publish up-to-date information on those Web sites regarding their hearing aid-compatible handset models. The annual reports required in this Order contain different and additional information than in previous versions of this information collection. Those requirements, along with the requirement to post certain information on Web sites, are intended to give consumers the information they need to navigate a technically complex and rapidly changing world of hearing aid-compatible wireless phones, and to allow the Commission to monitor compliance with its new regulations. Finally, in order to avoid potential consumer confusion over technical capabilities, the Order modified the product labeling requirements slightly.

Federal Communications Commission.
Marlene H. Dortch,
Secretary.

[FR Doc. E8-16494 Filed 7-18-08; 8:45 am]

BILLING CODE 6712-01-P